ENVIRONMENTAL PROTECTION AGENCY

40 CFR Part 52

[EPA-R09-OAR-2018-0713: FRL-10001-66-Region 9]

Revisions to California State Implementation Plan; Antelope Valley Air Quality Management District and Ventura County Air Pollution Control District; Nonattainment New Source Review Requirements for the 2008 8-Hour Ozone Standard

AGENCY: Environmental Protection Agency (EPA).

ACTION: Final rule.

SUMMARY: The Environmental Protection Agency (EPA) is proposing to approve two state implementation plan (SIP) revisions submitted by the State of California addressing the nonattainment new source review (NNSR) requirements for the 2008 8-hour ozone National Ambient Air Quality Standards (NAAQS) and one SIP revision regarding a permit rule. These SIP revisions address the Antelope Valley Air Quality Management District (AVAQMD or District) and Ventura County Air Pollution Control District (VCAPCD or District) portions of the California SIP. This action is being taken pursuant to the Clean Air Act (CAA or “Act”) and its implementing regulations.

DATES: This rule will be effective on January 2, 2020.

ADDRESSES: The EPA has established a docket for this action under Docket ID No. EPA-R09-OAR-2018-0713. All documents in the docket are listed on the https://www.regulations.gov website. Although listed in the index, some information is not publicly available, e.g., Confidential Business Information or other information whose disclosure is restricted by statute. Certain other material, such as copyrighted material, is not placed on the internet and will be publicly available only in hard copy form. Publicly available docket materials are available through https://www.regulations.gov, or please contact the person identified in the FOR FURTHER INFORMATION CONTACT section for additional availability information.

FOR FURTHER INFORMATION CONTACT: Manny Aquitania, EPA Region IX, 75 Hawthorne St., San Francisco, CA 94105; (415) 972-3977, aquitania.manny@epa.gov.

SUPPLEMENTARY INFORMATION: Throughout this document, the terms “we,” “us,” and “our” refer to EPA.

Table of Contents

I. Proposed Action

II. Public Comments

III. EPA Action

IV. Incorporation by Reference

V. Statutory and Executive Order Reviews

I. Proposed Action

On August 22, 2019 (84 FR 43738), the EPA proposed to approve the SIP revisions listed in Table 1, addressing the NNSR requirements for the 2008 8-hour ozone NAAQS for the AVAQMD and the VCAPCD, and one SIP revision regarding a permit rule.

Table 1—SIP Revisions
District | Rule # | Rule title | Adoption/amend date | Submittal date
AVAQMD | N/A | 2008 Ozone Certification | 7/17/2018 | 8/31/2018
VCAPCD | N/A | 2008 Ozone Certification | 7/31/2018 | 8/31/2018
VCAPCD | 10 | Permits Required | 4/13/2004 | 7/19/2004

Initially, the EPA proposed to approve the SIP revisions for AVAQMD and VCAPCD on May 10, 2019. The EPA received one adverse comment stating that Section V, Incorporation by Reference, contained an administrative error regarding what provisions were to be incorporated by reference. To address this error, the EPA corrected Section V and re-proposed our action in the Federal Register on August 22, 2019 (84 FR 43738). Our new notice clearly stated that we proposed to incorporate by reference Ventura County Rule 10, “Required Permits” into the SIP.

We proposed approval of these SIP revisions because we determined that the 2008 ozone certification submitted for each District fulfills the 40 CFR 51.1114 revision requirement and meets the requirements of Clean Air Act (CAA) section 110 and the minimum SIP requirements of 40 CFR 51.165.

II. Public Comments

The EPA's proposed action provided a 30-day public comment period. No comments were received.

III. EPA Action

No comments were submitted that change our assessment of the rule as described in our proposed action. Therefore, as authorized in section 110(k)(3) of the Act, the EPA is approving the two certifications and one rule, into the California SIP as proposed.

IV. Incorporation by Reference

In this rule, the EPA is finalizing regulatory text that includes incorporation by reference. In accordance with requirements of 1 CFR 51.5, the EPA is finalizing the incorporation by reference of the VCAPCD rule listed in Table 1 of this preamble. The EPA has made, and will continue to make, these materials available electronically through https://www.regulations.gov and at the EPA Region IX Office (please contact the person identified in the FOR FURTHER INFORMATION CONTACT section of this preamble for more information).

V. Statutory and Executive Order Reviews

Under the Clean Air Act, the Administrator is required to approve a SIP submission that complies with the provisions of the Act and applicable Federal regulations. 42 U.S.C. 7410(k); 40 CFR 52.02(a). Thus, in reviewing SIP submissions, The EPA's role is to approve state choices, provided that they meet the criteria of the Clean Air Act. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide the EPA with the discretionary authority to address, as appropriate, disproportionate human health or environmental effects, using practicable and legally permissible methods, under Executive Order 12898 (59 FR 7629, February 16, 1994).

In addition, the SIP is not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

List of Subjects in 40 CFR Part 52

Environmental protection, Air pollution control, Incorporation by reference, Intergovernmental relations, Nitrogen dioxide, Ozone, Reporting and recordkeeping requirements, Volatile organic compounds.

Authority: 42 U.S.C. 7401 et seq.

Dated: October 21, 2019.
Deborah Jordan,
Acting Regional Administrator, Region IX.

Part 52, Chapter I, Title 40 of the Code of Federal Regulations is amended as follows:

PART 52—APPROVAL AND PROMULGATION OF IMPLEMENTATION PLANS

1. The authority citation for part 52 continues to read as follows:

Authority: 42 U.S.C. 7401 et seq.

Subpart F—California

2. Section 52.220 is amended by adding paragraphs (c)(332)(i)(B)(5) and (c)(528) to read as follows:

§ 52.220 Identification of plan—in part.

* * * * *

(c) * * *

(332) * * *

(i) * * *

(B) * * *

(5) Ventura County Rule 10—Permits Required, adopted on April 13, 2004.

* * * * *

(528) New additional materials for the following air districts were submitted on August 31, 2018 by the Governor's designee.

(i) [Reserved]

(ii) Additional Materials.

(A) Antelope Valley Air Quality Management District.

(1) “Nonattainment New Source Review (NNSR) Compliance Demonstrations for the 2008 Ozone National Ambient Air Quality Standard (NAAQS),” adopted July 17, 2018.

(2) [Reserved]

(B) Ventura County Air Pollution Control District.

(1) “NNSR Compliance Demonstrations for the 2008 Ozone NAAQS,” adopted July 31, 2018.

(2) [Reserved]

[FR Doc. 2019-26036 Filed 12-2-19; 8:45 am]

BILLING CODE 6560-50-P